DEPARTMENT OF THE INTERIOR

Bureau of Land Management

[LLID933000.L14300000.FR0000; IDI-011668, IDI-15305, IDI-15304]

Expiration of Withdrawals and Opening of Lands; Idaho

AGENCY: Bureau of Land Management, Interior.

ACTION: Notice.

SUMMARY: The Bureau of Land Management announces the expiration of two withdrawals established by two Secretarial Orders and one Public Land Order and modified by two Public Land Orders affecting 62,025.42 acres of public lands in Ada, Adams, Boise, Canyon, Gem, Payette, and Washington Counties withdrawn for stock driveway purposes. This action opens the lands to the operation of the public land laws. The lands have been and will remain open to mining and mineral leasing.

DATES: Effective Date: February 14, 2011.

FOR FURTHER INFORMATION CONTACT: Laura Bingham, Bureau of Land Management, Idaho State Office, 1387 South Vinnell Way, Boise, Idaho 83709, 208-373-3866.

SUPPLEMENTARY INFORMATION: Copies of the expired orders describing the lands involved are available at the Bureau of Land Management Idaho State Office (address above). All of the lands have been and will remain open to mining and mineral leasing.

1. The withdrawal established by the Secretarial Order of May 17, 1918, and Public Land Order No. 3398, (29 FR 6686 (May 22, 1964)), as modified by Public Land Order No. 6436 (48 FR 33711 (July 25, 1983)), which withdrew 60,744.74 acres public lands from the operation of the public land laws for a period of 20 years for stock driveway purposes, expired on July 24, 2003.

2. The withdrawal established by the Secretarial Order of July 17, 1918, as modified by Public Land Order No. 6518 (49 FR 5924 (February 16, 1984)), which withdrew 1,280.68 acres public lands from the operation of the public land laws for a period of 20 years for stock driveway purposes, expired on March 16, 2004.

3. In accordance with 43 CFR 2091.6, at 8:30 a.m. on February 14, 2011, the lands withdrawn by the orders listed in Paragraphs 1 and 2 above will be opened to the operation of the public land laws generally, subject to valid existing rights, the provisions of existing withdrawals, other segregations of record, and the requirements of applicable law. All valid applications received at or prior to 8:30 a.m. on February 14, 2011, shall be considered as simultaneously filed at that time.

Those received thereafter shall be considered in the order of filing.

Authority: 43 CFR 2091.6.

Jerry L. Taylor,
Chief, Branch of Lands, Minerals and Water Rights, Resource Services Division.

[FR Doc. 2011-608 Filed 1-12-11; 8:45 am]

BILLING CODE 4310-GG-P